DEPARTMENT OF DEFENSE

Department of the Army, Corps of Engineers

Withdrawal of the Environmental Impact Statement (EIS) Development Process for the Proposed Beluga to Fairbanks (B2F) Natural Gas Transportation Pipeline

AGENCY: U.S. Army Corps of Engineers, DoD.

ACTION: Notice of withdrawal.

SUMMARY: On January 22, 2009, the Alaska District, U.S. Army Corps of Engineers (Corps) published a notice of intent to prepare a Draft Environmental Impact Statement (DEIS) to address the potential impacts associated with the construction of the proposed Beluga to Fairbanks (B2F) Alaska natural gas transportation pipeline. On June 24, 2010, the Corps received a request from the Alaska Natural Gas Development Authority discontinuing the EIS development process associated with the proposed B2F pipeline.

FOR FURTHER INFORMATION CONTACT: Questions can be answered by: Ms. Serena Sweet, Regulatory Division, telephone: (907) 753-2819, toll free in AK: (800) 478-2712, Fax: (907) 753-5567, e-mail: serena.e.sweet@usace.army.mil, mail: U.S. Army Corps of Engineers, CEPOA-RD, Post Office Box 6898, Elmendorf AFB, Alaska 99506-0898. Additional information may be obtained at http://www.angdab2feis.com.

Dated: July 2, 2010.
Serena E. Sweet,
Project Manager, Alaska District, U.S. Army Corps of Engineers.

[FR Doc. 2010-17321 Filed 7-15-10; 8:45 am]

BILLING CODE 3720-58-P